DEPARTMENT OF COMMERCE

Foreign-Trade Zones Board

[Order No. 1524]

Expansion of Foreign-Trade Zone 15, Kansas City, Missouri, Area

Pursuant to its authority under the Foreign-Trade Zones Act of June 18, 1934, as amended (19 U.S.C. 81a-81u), the Foreign-Trade Zones Board adopts the following Order:

Whereas, the Greater Kansas City Foreign Trade Zone, Inc., grantee of Foreign-Trade Zone 15, submitted an application to the Board for authority to expand FTZ 15 to include three additional sites (Sites 10-12) in the Kansas City, Missouri, area, to restore six acres to Site 8, to establish temporary Site 8T as permanent in Chillicothe, and to delete acreage from Site 7 located in Kansas City, adjacent to the Kansas City Customs and Border Protection port of entry (FTZ Docket 47-2006; filed 12/14/06);

Whereas, notice inviting public comment was given in the Federal Register (71 FR 77369, 12/26/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 15 is approved, subject to the Act and the Board's regulations, including Section 400.28, and to the Board's standard 2,000-acre activation limit for the overall general-purpose zone project, and further subject to a sunset provision that would terminate authority on September 30, 2012, for any of the proposed sites (Sites 10-12) where no activity has occurred under FTZ procedures before that date.

Signed at Washington, DC, this 7th day of September 2007.

David M. Spooner,
Assistant Secretary of Commerce for Import Administration, Alternate Chairman, Foreign-Trade Zones Board.
Attest:
Andrew McGilvray,
Executive Secretary.

[FR Doc. E7-18370 Filed 9-17-07; 8:45 am]

BILLING CODE 3510-DS-S